DEPARTMENT OF ENERGY

Federal Energy Regulatory Commission

Notice of FERC Staff Participation at Stakeholder Meeting on the California Independent System Operator's Comprehensive Market Redesign Proposal

July 16, 2002.

The Federal Energy Regulatory Commission hereby gives notice that on July 23, 2002, members of its staff will attend the meeting sponsored by several stakeholders about the California Independent System Operator's Comprehensive Market Redesign Proposal. The staff's attendance is part of the Commission's ongoing outreach efforts. The meeting is sponsored by Tony Braun of Braun and Associates, P.C. and will be held at the offices of Sempra Energy, 101 Ash Street, San Diego, CA. This meeting is open to the public. The meeting may discuss matters at issue in Docket Nos. EL00-95-000 and ER02-1656-000. For more information, contact Tony Braun at (916) 441-1733, or Susan Pollonais at (202) 208-0011.

Magalie R. Salas,
Secretary.

[FR Doc. 02-18386 Filed 7-19-02; 8:45 am]

BILLING CODE 6717-01-P